DEPARTMENT OF HOMELAND SECURITY

Transportation Security Administration

Revision of an Agency Information Collection Activity Under OMB Review: Security Appointment Center (SAC) Visitor Request Form and Foreign National Vetting Request

AGENCY: Transportation Security Administration, DHS.

ACTION: 30-Day notice.

SUMMARY: This notice announces that the Transportation Security Administration (TSA) has forwarded the Information Collection Request (ICR), Office of Management and Budget (OMB) control number 1652-0068, abstracted below to OMB for review and approval of a revision of the currently approved collection under the Paperwork Reduction Act (PRA). The collection involves gathering information from individuals who plan to visit all TSA facilities in the National Capital Region (NCR).

DATES: Send your comments by May 22, 2025. A comment to OMB is most effective if OMB receives it within 30 days of publication.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on October 25, 2024, 89 FR 85228. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Appointment Center (SAC) Visitor Request Form and Foreign National Vetting Request.

Type of Request: Revision of a currently approved collection.

OMB Control Number: 1652-0068.

Form(s): TSA Forms 2802 and 2816B.

Affected Public: Visitors to TSA facilities in the NCR.

Abstract: The Secretary of the Department of Homeland Security (DHS) is authorized to protect property owned, occupied, or secured by the Federal Government. See 40 U.S.C. 1315. See also 41 CFR 102-81.15 (requires Executive agencies to be responsible for maintaining security at their own or leased facilities). To implement this requirement, DHS policy requires all visitors to DHS facilities in the NCR ¹ to have a criminal history records check through the National Crime Information Center system before accessing the facility. In reviewing the National Crime Information Center results, TSA will consider whether an individual could potentially pose a threat to the safety of TSA employees, contractors, visitors, or the facility. TSA is revising the collection to remove TSA Form 2816A and transition TSA Form 2816B to a web form using SharePoint.

¹ TSA facilities in the NCR include TSA Headquarters, the Freedom Center, the Transportation Security Integration Facility, the Metro Park office complex, and the Annapolis Junction facility.

TSA is submitting TSA Forms 2802 and 2816B as Common Forms to permit Federal agency users beyond the agency that created the form (e.g., DHS or U.S. Office of Personnel Management) to streamline the information collection process in coordination with OMB.

Estimated Annual Number of Respondents: 39,213.

Estimated Annual Burden Hours: 300.

Dated: April 16, 2025.
Christina A. Walsh,
TSA Paperwork Reduction Act Officer, Information Technology, Transportation Security Administration.

[FR Doc. 2025-06855 Filed 4-21-25; 8:45 am]

BILLING CODE 9110-05-P